DEPARTMENT OF COMMERCE

National Oceanic and Atmospheric Administration

[RTID 0648-XC814]

Fisheries of the Exclusive Economic Zone Off Alaska; Prohibited Species Donation Program

AGENCY: National Marine Fisheries Service (NMFS), National Oceanic and Atmospheric Administration (NOAA), Commerce.

ACTION: Notice; selection of an authorized distributor.

SUMMARY: NMFS announces the renewal of two prohibited species donation (PSD) permits to SeaShare, a non-profit and tax exempt organization, authorizing this organization to distribute Pacific salmon and Pacific halibut to hunger relief agencies, food bank networks, or food bank distributors under the PSD program. Salmon and halibut are caught incidentally during directed fishing for groundfish with trawl gear off Alaska. This action is necessary to comply with provisions of the PSD program and is intended to promote the goals and objectives of the North Pacific Fishery Management Council.

DATES: The permits are effective from May 18, 2023 through May 25, 2026.

ADDRESSES: Electronic copies of the PSD permits for salmon and halibut prepared for this action may be obtained from the Alaska Region website at https://www.fisheries.noaa.gov/region/alaska.

FOR FURTHER INFORMATION CONTACT: Megan Mackey, 907-586-7228.

SUPPLEMENTARY INFORMATION:

Background

Fishing for groundfish by United States vessels in the exclusive economic zone of the Bering Sea and Aleutian Islands management area (BSAI) and Gulf of Alaska (GOA) is managed by NMFS in accordance with the Fishery Management Plan for Groundfish of the Bering Sea and Aleutian Islands Management Area (BSAI FMP) and the Fishery Management Plan for Groundfish of the Gulf of Alaska (GOA FMP). These fishery management plans (FMPs) were prepared by the North Pacific Fishery Management Council under the Magnuson-Stevens Fishery Conservation and Management Act (16 U.S.C. 1801 et seq.). Regulations governing the Alaska groundfish fisheries and implementing the FMPs appear at 50 CFR parts 600 and 679. Fishing for halibut in waters in and off Alaska is governed by the Convention between the U.S. and Canada for the Preservation of the Halibut Fishery of the North Pacific Ocean and Bering Sea (Convention). The International Pacific Halibut Commission (IPHC) promulgates regulations pursuant to the Convention. The IPHC's regulations are subject to approval by the Secretary of State with concurrence from the Secretary of Commerce. After approval by the Secretary of State and the Secretary of Commerce, the IPHC regulations are published in the Federal Register as annual management measures pursuant to 50 CFR 300.62.

Retention of incidentally caught prohibited species is prohibited in the groundfish fisheries except for salmon and halibut for the purposes of the PSD program. Amendments 26 and 29 to the BSAI and GOA FMPs, respectively, authorize a salmon donation program and were approved by NMFS on July 10, 1996; a final rule implementing this program was published in the Federal Register on July 24, 1996 (61 FR 38358). The salmon donation program was expanded to include halibut as part of the PSD program under Amendments 50 and 50 to the FMPs that were approved by NMFS on May 6, 1998. A final rule implementing Amendments 50 and 50 was published in the Federal Register on June 12, 1998 (63 FR 32144). Although that final rule contained a sunset provision for the halibut PSD program of December 31, 2000, the halibut PSD program was permanently extended under a final rule published in the Federal Register on December 14, 2000 (65 FR 78119). A full description of, and background information on, the PSD program may be found in the preambles to the proposed rules for Amendments 26 and 29, and Amendments 50 and 50 (61 FR 24750, May 16, 1996, and 63 FR 10583, March 4, 1998, respectively).

Section 679.26 authorizes the voluntary distribution of salmon and halibut taken incidentally in the groundfish trawl fisheries off Alaska to hunger relief agencies, food bank networks, or food bank distributors by tax-exempt organizations through an authorized distributor. The Administrator, Alaska Region, NMFS (Regional Administrator), may select one or more tax-exempt organizations to be authorized distributors, as defined by § 679.2, based on the information submitted by applicants under § 679.26. After review of qualified applicants, NMFS must announce the selection of each authorized distributor in the Federal Register and issue one or more PSD permits to each selected distributor.

Renewal of Permits to SeaShare

Currently, SeaShare, a tax-exempt organization founded to help the seafood industry donate to U.S. hunger relief efforts, is the sole authorized distributor of salmon and halibut taken incidentally in the groundfish trawl fisheries off Alaska. SeaShare's current salmon and halibut PSD permits became effective June 2, 2020, and authorize SeaShare to participate in the PSD program through May 28, 2023 (85 FR 33633, June 2, 2020).

On April 12, 2023, the Regional Administrator received applications from SeaShare to renew its salmon and halibut PSD permits. The Regional Administrator reviewed the applications (one for salmon and one for halibut) and determined that both applications are complete and that SeaShare continues to meet the requirements for an authorized distributor of salmon and halibut under the PSD program. As required by § 679.26(b)(2), the Regional Administrator based his selection on the following criteria:

1. The number and qualifications of applicants for PSD permits. SeaShare is the only applicant for PSD permits at this time. NMFS, under the Regional Administrator, has previously approved applications submitted by SeaShare. As of the date of this notice, no other applications have been approved by NMFS. SeaShare has been coordinating the distribution of salmon taken incidentally in trawl fisheries since 1993, and of halibut taken incidentally in trawl fisheries since 1998, under exempted fishing permits from 1993 to 1996 and under the PSD program since 1996. SeaShare employs independent seafood quality control experts to ensure product quality is maintained by cold storage facilities and common carriers servicing the areas where salmon and halibut donations would take place.

2. The number of harvesters and the quantity of fish that applicants can effectively administer. Current participants in the PSD program administered by SeaShare include 12 shoreside processors and 136 catcher vessels delivering to shoreside processors, 34 catcher processors, and 3 motherships. Two secondary processing plants that generate steaked salmon and halibut participate in the PSD program. SeaShare has the capacity to receive and distribute salmon and halibut from up to 60 processors and the associated catcher vessels. Therefore, it is anticipated that SeaShare has more than adequate capacity for any foreseeable expansion of donations.

Table 1 shows the total pounds of headed-and-gutted and steaked salmon and halibut donated to food bank organizations from 2019 through early April of 2023. NMFS does not have information to convert accurately the net weights of salmon and halibut to numbers of salmon and numbers of halibut.

Table 1—Headed-and-Gutted (H&G) and Steaked Salmon and Halibut Donated to Food Bank Organizations
[Pounds]
| 2019 | 2020 | 2021 | 2022 | 2023 | Total
Salmon H&G | 3,293 | 2,150 | 0.00 | 292 | 0.00 | 5,735
Salmon steaked | 368,650 | 234,520 | 136,700 | 181,682 | 47,051 | 968,603
Halibut H&G | 35,895 | 19,693 | 4,100 | 3,643 | 0.00 | 63,331
Halibut steaked | 14,313 | 11,336 | 9,852 | 12,1678 | 1,200 | 49,379
Total Inventory | 422,151 | 267.699 | 150,652 | 198,295 | 48,251 | 1,087,048

3. The anticipated level of salmon and halibut incidental catch based on salmon and halibut incidental catch from previous years. The incidental catch of salmon and incidental catch mortality of halibut in the GOA and BSAI trawl fisheries are shown in Table 2.

Table 2—Incidental Catch of Salmon and Incidental Catch Mortality of Halibut in the GOA and BSAI Trawl Fisheries
[In number of fish or metric tons (mt)]
Area fishery | 2019 | 2020 | 2021 | 2022
BSAI Trawl Chinook Salmon Incidental Catch ¹ | 31,467 fish | 34,955 fish | 15,880 fish | 8,336 fish
BSAI Trawl Other Salmon Incidental Catch ² | 358,804 fish | 346,245 fish | 550,645 fish | 245,160 fish
GOA Trawl Chinook Salmon Incidental Catch ³ | 23,903 fish | 11,753 fish | 17,180 fish | 14,565 fish
GOA Trawl Other Salmon Incidental Catch ⁴ | 6,413 fish | 3,232 Fish | 3,566 Fish | 5,241 Fish
BSAI Trawl Halibut Mortality ⁵ | 2,270 mt | 1,577 mt | 1,426 mt | 2,057 mt
GOA Trawl Halibut Mortality ⁶ | 1,099 mt | 788 mt | 367 mt | 353 mt
¹ https://www.fisheries.noaa.gov/sites/default/files/akro/chinook_salmon_mortality2023.html.
² https://www.fisheries.noaa.gov/sites/default/files/akro/chum_salmon_mortality2023.html.
³ https://www.fisheries.noaa.gov/sites/default/files/akro/goasalmonmort2023.html.
⁴ https://www.fisheries.noaa.gov/sites/default/files/akro/chum_salmon_mortality2023.html.
⁵ https://www.fisheries.noaa.gov/alaska/commercial-fishing/fisheries-catch-and-landings-reports#bsai-prohibited-species.
⁶ https://www.fisheries.noaa.gov/alaska/commercial-fishing/fisheries-catch-and-landings-reports#goa-prohibited-species.

Halibut incidental catch amounts are constrained by an annual prohibited species catch (PSC) limit in the BSAI and GOA. Future halibut incidental catch levels likely will be similar to those experienced from 2019 through 2022.

Chinook salmon PSC limits (which are in number of fish) are established for the Bering Sea and central and western GOA pollock fisheries that, when attained, result in the closure of pollock fishing. The Chinook salmon PSC limits for the Bering Sea pollock fisheries were originally established by Amendment 91 to the BSAI FMP (75 FR 53026, August 30, 2010) and established for the central and western GOA pollock fisheries by Amendment 93 to the GOA FMP (77 FR 42629, July 20, 2012). In 2016, Amendment 110 to the BSAI FMP was implemented to improve the management of Chinook and chum salmon bycatch in the Bering Sea pollock fishery by creating a comprehensive salmon bycatch avoidance program (81 FR 37534, June 10, 2016). In 2015, Amendment 97 to the GOA FMP established annual Chinook salmon PSC limits for the groundfish trawl fisheries, except for pollock trawl fisheries, in the Western and Central GOA (79 FR 71350, December 2, 2014). While salmon incidental catch amounts tend to vary between years, making it difficult to accurately predict future incidental take amounts, the total, or maximum, amount of annual Chinook salmon incidental catch in the Bering Sea and GOA pollock fisheries is constrained by the PSC limits.

4. The number of vessels and processors participating in the PSD program. For the 2023 permit renewal, there will be 12 shoreside processors. Catcher processors will decrease from 34 to 31 under the 2023 permit renewal. Motherships will increase from three to four. Catcher vessels delivering to shoreside processors as well as motherships will decrease slightly from 151 to 140. Secondary processors will increase from two to three.

NMFS issues PSD permits to SeaShare for a 3-year period unless the permits are suspended or revoked under § 679.26. The permits may not be transferred; however, they may be renewed following the application procedures in § 679.26. If the authorized distributor modifies the list of participants in the PSD program or delivery locations, the authorized distributor must submit a modified list of participants or a modified list of delivery locations to the Regional Administrator within 30 days of the list modification.

These permits may be suspended, modified, or revoked under 15 CFR part 904 for violation of § 679.26 or other regulations in 50 CFR part 679.

This action is taken under § 679.26.

Authority: 16 U.S.C. 773 et seq.; 1801 et seq.; 3631 et seq.; Pub. L. 108-447; Pub. L. 111-281.

Dated: May 12, 2023.
Jennifer M. Wallace,
Acting Director, Office of Sustainable Fisheries, National Marine Fisheries Service.

[FR Doc. 2023-10570 Filed 5-17-23; 8:45 am]

BILLING CODE 3510-22-P